Presidential Determination No. 2025-08 of August 8, 2025

Extension of Waiver of Section 907 of the FREEDOM Support Act with Respect to Assistance to the Government of Azerbaijan

Memorandum for the Secretary of State

By the authority vested in me as President by the Constitution and the laws of the United States of America, including title II of the Foreign Operations, Export Financing, and Related Programs Appropriations Act, 2002 (Public Law 107-115), I hereby determine and certify that extending the waiver of section 907 of the FREEDOM Support Act (Public Law 102-511) with respect to Azerbaijan:

• is necessary to support United States efforts to counter international terrorism; or

• is necessary to support the operational readiness of United States Armed Forces or coalition partners to counter international terrorism; or

• is important to Azerbaijan's border security; and

• will not undermine or hamper ongoing efforts to negotiate a peaceful settlement between Armenia and Azerbaijan or be used for offensive purposes against Armenia.

Accordingly, I hereby extend the waiver of section 907 of the FREEDOM Support Act.

You are authorized and directed to publish this determination in the Federal Register and to provide this determination and the Memorandum of Justification to the appropriate committees of the Congress.

THE WHITE HOUSE,

Washington, August 8, 2025

[FR Doc. 2025-15682

Filed 8-14-25; 2:00 pm]

Billing code 4710-05-P